DEPARTMENT OF STATE

[Public Notice 3999]

Developing Department of State Information Quality Guidelines Pursuant to OMB Information Quality Guidelines Under Section 515 of the Treasury and General Government Appropriations Act for FY 2001 (Public Law 106-554; HR 5658)

AGENCY: Department of State.

ACTION: Notice.

SUMMARY: The Department of State (DOS) is now soliciting comments through its website on proposed Information Quality Guidelines Pursuant to OMB Information Quality Guidelines under Section 515 of the Treasury and General Government Appropriations Act for FY 2001 (Public Law 106-554; HR 5658). From May 1 through May 31, 2002, the public is invited to comment on these draft guidelines, which may be found at http://www.state.gov/r/pa/ei/rls/infoguide/. All comments will be considered as DOS develops Information Quality Guidelines pursuant to Office of Management and Budget Final Guidelines issued on February 22, 2002 (67 FR 8451-8460). Comments submitted in response to this notice may be disclosed in whole or part to OMB in conjunction with the DOS submission of revised guidelines for OMB review. The submitted comments become a matter of public record. Notice of the availability of DOS guidelines, as revised, will be published in the Federal Register and the revised guidelines will be available on the DOS web site no later than October 1, 2002.

Authority: Section 515 of the Treasury and General Government Appropriations Act for FY 2001 (Public Law 106-554; HR 5658) and the Office of Management and Budget Final Guidelines issued on January 3, 2002 (67 FR 369-378), as corrected and reprinted on February 22, 2002 (67 FR 8451-8460).

DATES: The public is invited to submit comments relative to the proposed guidelines from May 1 through May 31, 2002.

ADDRESSES: Comments may be submitted by electronic mail to dnewman@pd.state.gov.

FOR FURTHER INFORMATION CONTACT: David S. Newman, Attorney-Adviser, Office of the Legal Adviser, Department of State (telephone: 202/619-6982; e-mail: dnewman@pd.state.gov). The address is Department of State, SA-44, 301 4th Street, SW., Room 700, Washington, DC 20547-0001.

Dated: April 26, 2002.
William A. Eaton,
Assistant Secretary for Administration Department of State.

[FR Doc. 02-10882 Filed 4-30-02; 8:45 am]

BILLING CODE 4710-08-P